SMALL BUSINESS ADMINISTRATION

[Disaster Declaration #11254]

Maine Disaster Number ME-00012

AGENCY: U.S. Small Business Administration.

ACTION: Amendment 1.

SUMMARY: This is an amendment of the Presidential declaration of a major disaster for Public Assistance Only for the State of Maine ( FEMA-1755-DR), dated 05/14/2008.

Incident: Severe Storms and Flooding.

Incident Period: 04/28/2008 through 05/14/2008.

DATES: Effective Date: 05/14/2008.

Physical Loan Application Deadline Date: 07/14/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for private non-profit organizations in the State of Maine, dated 05/14/2008, is hereby amended to establish the incident period for this disaster as beginning 04/28/2008 and continuing through 05/14/2008.

All other information in the original declaration remains unchanged.

(Catalog of Federal Domestic Assistance Number 59008)

James E. Rivera,
Acting Associate Administrator for Disaster Assistance.

[FR Doc. E8-11885 Filed 5-27-08; 8:45 am]

BILLING CODE 8025-01-P